DEPARTMENT OF AGRICULTURE

Forest Service

Green Mountam National Forest; Vermont; Deerfield Wind Project

AGENCY: Forest Service, USDA.

ACTION: Revision, notice of intent to prepare a supplemental draft environmental impact statement.

SUMMARY: The Forest Service is processing an application for a special use authorization from Deerfield Wind, LLC for the installation and operation of wind turbines on National Forest System (NFS) lands managed by the Green Mountain National Forest (GMNF). This notice notifies the public of the intent to complete and publish a supplemental draft environmental impact statement (SDEIS).

DATES: The SDEIS is expected in July 2010 and the final environmental impact statement (FEIS) and Record of Decision (ROD) is expected in December 2010.

FOR FURTHER INFORMATION CONTACT: Bob Bayer, Project Coordinator, Manchester Ranger District, USDA Forest Service, 2538 Depot Street, Manchester Center, VT 05255; 802-362-2307 ext. 218;e-mail: rbayer@fs.fed.us.

SUPPLEMENTARY INFORMATION: The original notice of intent to prepare the Deerfield Wind Project EIS was published in the Federal Register on July 15, 2005 (Vol. 70, No. 135, page 409750). A revised notice of intent was published in the Federal Register on September 27, 2007 (Vol. 72, No. 187, page 54893) to notice the public of changes to the project timeline, minor modifications to the proposed action, and asked for comments on those modifications. A draft environmental impact statement (DEIS) was released to the public in September 2008. A Notice of Availability (NOA) for the Deerfield Wind Project DEIS was published in the Federal Register on October 3, 2008 (Vol. 73, No. 193, page 57620) requesting comments on the DEIS through November 28, 2008.

Upon release of the SDEIS, the forest will publish a NOA in the Federal Register and take comments on the SDEIS. The comment period dates will be published in the NOA.

Responsible Official

At the present time, Jerri Marr, Acting Forest Supervisor, Green Mountain and Finger Lakes National Forests, 231 North Main Street, Rutland, VT 05701-2417, is the Responsible Official. The forest expects to fill the Forest Supervisor position on a permanent basis within the next two to three months. That person would become the Responsible Official for the project.

Dated: January 11, 2010.
Jerri Marr,
Forest Supervisor.

[FR Doc. 2010-652 Filed 1-15-10; 8:45 am]

BILLING CODE 3410-11-M